CORPORATION FOR NATIONAL AND COMMUNITY SERVICE

Information Collection Submission to Office of Management and Budget for Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Public Law 104-13, (44 U.S.C. Chapter 35)). Copies of these individual ICRs, with applicable supporting documentation, may be obtained by calling the Corporation, Tracy Stone, Director, AmeriCorps Promise Fellows, (202) 606-5000, extension 173. Individuals who use a telecommunications device for the deaf (TTY-TDD) may call (202) 565-2799 between 8:30 a.m. and 5:00 p.m. Eastern time, Monday through Friday.

Comments should be sent to the Office of Information and Regulatory Affairs, Attn: Brenda Aguilar, OMB Desk Officer for the Corporation for National and Community Service, Office of Management and Budget, Room 10235, Washington, DC 20503, (202) 395-6466, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Description

The AmeriCorps Promise Fellows program supports a leadership cadre of AmeriCorps members spearheading community efforts to provide young people with five basic promises:

• Ongoing relationships with caring adults—parents, mentors, tutors or coaches;

• Safe places with structured activities during nonschool hours;

• Healthy start and future;

• Marketable skills through effective education; and

• Opportunities to give back through community service.

The 2001 AmeriCorps Promise Fellows Application Instructions provide the requirements, instructions and forms that eligible applicants need to complete an application to the Corporation for funding.

The Corporation seeks public comment on the forms, the instructions for the forms, and the instructions for the narrative portion of these application instructions.

Type of Review: New collection.

Agency: Corporation for National and Community Service.

Title: 2001 AmeriCorps Promise Fellows Application Instructions.

OMB Number: None.

Agency Number: None.

Affected Public: Governor-appointed state commissions on national and community service (State Commissions); nonprofit organizations proposing to sponsor AmeriCorps Promise Fellows in more than one state; Indian Tribes; and local government agencies, institutions of higher education, or public or private nonprofit organizations in states or U.S. territories that do not have a State Commission.

Total Respondents: 90.

Frequency: Once per year.

Average Time Per Response: 28 hours.

Estimated Total Burden Hours: 2,520 hours.

Total Burden Cost (capital/startup): None.

Total Burden Cost (operating/maintenance): None.

Technical Assistance Call

The Corporation will host a conference call to provide technical assistance regarding the 2001 AmeriCorps Promise Fellows Application Instructions. The primary purpose of these calls is to offer technical assistance to interested applicants to the program. The call will occur on Wednesday, March 21, 2001, at 2 p.m. Eastern time. To register for this call, please contact Austin Holland at (202) 606-5000, extension 274 or aholland@cns.gov to receive the information you need to join the call.

Dated: February 28, 2001.
Tracy Stone,
Director, AmeriCorps Promise Fellows.

[FR Doc. 01-5312 Filed 3-5-01; 8:45 am]

BILLING CODE 6050-$$-P